DEPARTMENT OF COMMERCE

International Trade Administration

[A-570-890]

Wooden Bedroom Furniture, From the People's Republic of China; Partial Rescission of Antidumping Duty Administrative Review

AGENCY: Enforcement and Compliance, International Trade Administration, Department of Commerce.

SUMMARY: On March 15, 2017, the Department of Commerce (the Department) published a notice of initiation of an administrative review of the antidumping duty order on wooden bedroom furniture from the People's Republic of China (PRC). Based on the timely withdrawal of the requests for review of certain companies, we are now rescinding this administrative review for the period January 1, 2016, through December 31, 2016, with respect to 67 companies.

DATES: Effective August 2, 2017.

FOR FURTHER INFORMATION CONTACT: Patrick O'Connor, AD/CVD Operations, Office IV, Enforcement and Compliance, International Trade Administration, U.S. Department of Commerce, 1401 Constitution Avenue NW., Washington, DC 20230, telephone: (202) 482-0989.

SUPPLEMENTARY INFORMATION:

Background

On January 4, 2005, the Department published in the Federal Register the antidumping duty order on wooden bedroom furniture from the PRC.¹ On January 10, 2017, the Department published a notice of opportunity to request an administrative review of the Order.² The Department received multiple timely requests for an administrative review of the Order.³ On March 15, 2017, in accordance with section 751(a) of Tariff Act of 1930, as amended (the Act) and 19 CFR 351.221(c)(1)(i), the Department published in the Federal Register a notice of the initiation of an administrative review of the Order.⁴ The administrative review was initiated with respect to 80 companies or groups of companies, and covers the period from January 1, 2016, through December 31, 2016.⁵ The requesting parties have subsequently timely withdrawn all review requests for 67 of the 80 companies or groups of companies for which the Department initiated a review, as discussed below.

¹ See Notice of Amended Final Determination of Sales at Less Than Fair Value and Antidumping Duty Order: Wooden Bedroom Furniture From the People's Republic of China, 70 FR 329 (January 4, 2005) (Order).

² See Antidumping or Countervailing Duty Order, Finding, or Suspended Investigation; Opportunity To Request Administrative Review, 82 FR 2951 (January 10, 2017).

³ See letter from Decca Furniture Limited, re: “Wooden Bedroom Furniture from the People's Republic of China: Decca Furniture Limited's Request for Administrative Review,” dated January 11, 2017; see letter from Fine Furniture (Shanghai) Limited, re: “Administrative Review of the Antidumping Duty Order on Wooden Bedroom Furniture from the People's Republic of China: Request for Review and Request for Voluntary Respondent Treatment,” dated January 18, 2017; see letter from Guangzhou Maria Yee Furnishings Ltd., PYLA HK LIMITED, and MARIA YEE, INC., re: “Wooden Bedroom Furniture from the People's Republic of China; Request for Administrative Review and Request for Voluntary Respondent Treatment,” dated January 25, 2017; see letter from the American Furniture Manufacturers Committee for Legal Trade and Vaughan-Bassett Furniture Company, Inc., re: “Wooden Bedroom Furniture from the People's Republic of China: Request for Initiation of Administrative Review,” dated January 31, 2017; see letter from Kimball International, Inc., Kimball Furniture Group, Inc., and Kimball Hospitality Inc., re: ” Wooden Bedroom Furniture from the People's Republic of China: Request for Initiation of Antidumping Duty Administrative Review,” dated January 31, 2017; see letter from Xiamen Yongquan Sci-Tech Development Co., Ltd., re: “Request for Twelfth Administrative Review of the Antidumping Duty Order on Wooden Bedroom Furniture from the People's Republic of China,” dated January 31, 2017; and see letter from Ningbo Furniture Industries Limited, Ningbo Hengrun Furniture Co., Ltd. and Techniwood Industries Limited, re: “Request for Twelfth Administrative Review of the Antidumping Duty Order on Wooden Bedroom Furniture from the People's Republic of China,” dated January 31, 2017.

⁴ See Initiation of Antidumping and Countervailing Duty Administrative Reviews, 82 FR 13795 (March 15, 2017) (Initiation Notice).

⁵ Id.

Rescission of Review, in Part

Pursuant to 19 CFR 351.213(d)(1), the Department will rescind an administrative review, in whole or in part, if a party that requested the review withdraws its request within 90 days of the date of publication of the notice of initiation of the requested review. All requesting parties withdrew their respective requests for an administrative review of the companies or groups of companies listed in the Appendix to this notice within 90 days of the date of publication of the Initiation Notice. Accordingly, the Department is rescinding this review, in part, with respect to these companies for which all review requests were withdrawn, in accordance with our practice ⁶ and 19 CFR 351.213(d)(1).⁷ The administrative review will continue with respect to all other firms for which a review was requested and initiated.

⁶ See, e.g., Certain Lined Paper Products from India: Notice of Partial Rescission of Countervailing Duty Administrative Review; 2014, 81 FR 7082 (February 10, 2016).

⁷ See Appendix. As stated in Change in Practice in NME Reviews, the Department will no longer consider the non-market economy (NME) entity as an exporter conditionally subject to administrative reviews. See Antidumping Proceedings: Announcement of Change in Department Practice for Respondent Selection in Antidumping Duty Proceedings and Conditional Review of the Nonmarket Economy Entity in NME Antidumping Duty Proceedings, 78 FR 65963 (November 4, 2013) (Change in Practice in NME Reviews). The PRC-wide entity is not subject to this administrative review because no interested party requested a review of the entity. See Initiation Notice.

Assessment

The Department will instruct U.S. Customs and Border Protection (CBP) to assess antidumping duties on all appropriate entries. For the companies for which this review is rescinded, antidumping duties shall be assessed at rates equal to the cash deposit of estimated antidumping duties required at the time of entry, or withdrawal from warehouse, for consumption, in accordance with 19 CFR 351.212(c)(1)(i). The Department intends to issue appropriate assessment instructions directly to CBP 15 days after publication of this notice.

Notification to Importers

This notice serves as the only reminder to importers whose entries will be liquidated as a result of this rescission notice, of their responsibility under 19 CFR 351.402(f)(2) to file a certificate regarding the reimbursement of antidumping duties prior to liquidation of the relevant entries during this review period. Failure to comply with this requirement could result in the Secretary's assumption that the reimbursement of antidumping duties occurred and the subsequent assessment of double antidumping duties.

Notification Regarding Administrative Protective Orders

This notice also serves as a reminder to parties subject to administrative protective orders (APO) of their responsibility concerning the return or destruction of proprietary information disclosed under an APO in accordance with 19 CFR 351.305(a)(3), which continues to govern business proprietary information in this segment of the proceeding. Timely written notification of the return or destruction of APO materials or conversion to judicial protective order is hereby requested. Failure to comply with the regulations and terms of an APO is a violation which is subject to sanction.

This notice is issued and published in accordance with sections 751(a)(1) and 777(i)(1) of the Act, and 19 CFR 351.213(d)(4).

Dated: July 27, 2017.
James Maeder,
Senior Director performing the duties of Deputy Assistant Secretary for Antidumping and Countervailing Duty Operations.

Appendix

• Beautter Furniture Mfg. Co.

• Best Beauty Furniture Co. Ltd.

• C.F. Kent Co., Inc.

• C.F. Kent Hospitality, Inc.

• Century Distribution Systems, Inc.

• Clearwise Co., Ltd.

• Dongguan Chengcheng Furniture Co., Ltd.

• Dongguan Fortune Furniture Ltd.

• Dongguan Jinfeng Creative Furniture

• Dongguan Kingstone Furniture Co., Ltd.; Kingstone Furniture Co., Ltd.

• Dongguan Nova Furniture Co., Ltd.

• Dongguan Singways Furniture Co., Ltd.

• Dongguan Zhisheng Furniture Co., Ltd.

• Dorbest Ltd.; Rui Feng Woodwork Co., Ltd. aka Rui Feng Woodwork (Dongguan) Co., Ltd.; Rui Feng Lumber Development Co., Ltd. aka Rui Feng Lumber Development (Shenzhen) Co., Ltd.

• Evergo Furniture Manufacturing Co., Ltd.

• Fine Furniture (Shanghai) Ltd.

• Fleetwood Fine Furniture LP

• Fortune Furniture Ltd.,

• Foshan Bailan Imp. & Exp. Ltd.

• Foshan Shunde Longjiang Zhishang Furniture Factory

• Fujian Lianfu Forestry Co., Ltd. (aka Fujian Wonder Pacific Inc.)

• Guangzhou Maria Yee Furnishings Ltd., Pyla HK Ltd., Maria Yee, Inc.

• Haining Kareno Furniture Co., Ltd.

• Hang Hai Woodcrafts Art Factory

• Hangzhou Cadman Trading Co., Ltd. (Exporter) Haining Changbei Furniture Co., Ltd. (Producer)

• Hualing Furniture (China) Co., Ltd.; Tony House Manufacture (China) Co., Ltd.; Buysell Investments Ltd.; Tony House Industries Co., Ltd.

• Jiangmen Kinwai Furniture Decoration Co., Ltd.

• Jiangmen Kinwai International Furniture Co., Ltd.

• Jiangsu Dare Furniture Co., Ltd.

• Jiangsu Xiangsheng Bedtime Furniture Co., Ltd.

• Jiangsu Yuexing Furniture Group Co., Ltd.

• Jiant Furniture Co. Ltd.

• Jiashan Zhenxuan Furniture Co., Ltd

• K Wee & Co., Ltd

• Kunshan Summit Furniture Co., Ltd.

• Nantong Wangzhuang Furniture Co. Ltd.

• Nantong Yangzi Furniture Co., Ltd.

• Nathan International Ltd.; Nathan Rattan Factory

• Orient International Holding Shanghai Foreign Trade Co., Ltd.

• Passwell Corporation; Pleasant Wave Ltd.

• Perfect Line Furniture Co., Ltd.

• PuTian Jinggong Furniture Co., Ltd.

• Qingdao Liangmu Co., Ltd.

• Restonic (Dongguan) Furniture Ltd.; Restonic Far East (Samoa) Ltd.

• Shanghai Jian Pu Export & Import Co., Ltd.

• Shenzhen Diamond Furniture Co., Ltd.

• Shenzhen Forest Furniture Co., Ltd.

• Shenzhen Jiafa High Grade Furniture Co., Ltd.; Golden Lion International Trading Ltd.

• Shenzhen New Fudu Furniture Co., Ltd.

• Shenzhen Wonderful Furniture Co., Ltd.

• Shenzhen Xingli Furniture Co., Ltd.

• Shing Mark Enterprise Co., Ltd.; Carven Industries Limited (BVI); Carven Industries Limited (HK); Dongguan Zhenxin Furniture Co., Ltd.; Dongguan Yongpeng Furniture Co., Ltd.

• Sunforce Furniture (Hui-Yang) Co., Ltd.; Sun Fung Wooden Factory; Sun Fung Co.; Shin Feng Furniture Co., Ltd.; Stupendous International Co., Ltd.

• Superwood Co., Ltd.; Lianjiang Zongyu Art Products Co., Ltd.

• Techniwood Industries Ltd.; Ningbo Furniture Industries Ltd.; Ningbo Hengrun Furniture Co., Ltd.

• Tradewinds Furniture Ltd. (Successor-In-Interest To Nanhai Jiantai Woodwork Co. Ltd.); Fortune Glory Industrial Ltd. (H.K. Ltd.)

• Weimei Furniture Co., Ltd.

• Wuxi Yushea Furniture Co., Ltd.

• Xiamen Yongquan Sci-Tech Development Co., Ltd.

• Yihua Timber Industry Co., Ltd.; Guangdong Yihua Timber Industry Co., Ltd.

• Zhangjiagang Daye Hotel Furniture Co., Ltd.

• Zhangzhou Guohui Industrial & Trade Co., Ltd.

• Zhejiang Tianyi Scientific & Educational Equipment Co., Ltd.

• Zhong Shun Wood Art Co.

• Zhongshan Fookyik Furniture Co., Ltd.

• Zhongshan Golden King Furniture Industrial Co., Ltd.

• Zhoushan For-Strong Wood Co., Ltd.

[FR Doc. 2017-16261 Filed 8-1-17; 8:45 am]

BILLING CODE 3510-DS-P